DEPARTMENT OF ENERGY

Federal Energy Regulatory Commission

[Docket No. ER01-1977-000, et al.]

Idaho Power Company, et al. Electric Rate and Corporate Regulation Filings

May 22, 2001.

Take notice that the following filings have been made with the Commission:

1. Idaho Power Company

[Docket No. ER01-1977-000]

Take notice that on May 17, 2001, Idaho Power Company tendered for filing a Notice of Withdrawal of its rate filing of a revised Service Agreement for Firm Point-to-Point Transmission Service between Idaho Power Company and Arizona Public Service Company under Idaho Power Company's FERC Electric Tariff, First Revised Volume No. 5, Open Access Transmission Tariff.

Comment date: June 7, 2001, in accordance with Standard Paragraph E at the end of this notice.

2. Idaho Power Company

[Docket No. ER01-1920-001]

Take notice that on May 17, 2001, Idaho Power Company, tendered for filing a revised Service Agreement for Firm Point-to-Point Transmission Service between Idaho Power Company and Arizona Public Service Company under its open access transmission tariff in the above-captioned proceeding.

Comment date: June 7, 2001, in accordance with Standard Paragraph E at the end of this notice.

3. Idaho Power Company

[Docket No. ER01-1913-000]

Take notice that on May 17, 2001, Idaho Power Company tendered for filing a Notice of Withdrawal of its rate filing of a revised Service Agreement for Firm Point-to-Point Transmission Service between Idaho Power Company and Arizona Public Service Company under Idaho Power Company's FERC Electric Tariff, First Revised Volume No. 5, Open Access Transmission Tariff.

Comment date: June 7, 2001, in accordance with Standard Paragraph E at the end of this notice.

4. Michigan Electric Transmission Company

[Docket No. ER01-1849-001]

Take notice that on May 17, 2001, Michigan Electric Transmission Company (Michigan Transco) tendered for filing a replacement cover sheet (with a corrected Service Agreement designation) for the Service Agreement filed in this docket.

Copies of that filing were served upon those on the official service list in this docket.

Comment date: June 7, 2001, in accordance with Standard Paragraph E at the end of this notice.

5. Sierra Pacific Power Company, Nevada Power Company

[Docket No. ER01-1527-002 and ER01-1529-002]

Take notice that on May 17, 2001, Sierra Pacific Power Company (SPPC) and Nevada Power Company (NPC) tendered for filing proposed modifications to their respective Market-Based Rate Tariffs. The proposed modifications would reflect the announcement by Sierra Pacific Resources (SPR), the parent company of SPPC and NPC, and Enron Corp., the parent company of Portland General Electric Company (PGE), that they have mutually agreed to terminate SPR's planned acquisition of PGE.

Comment date: June 7, 2001, in accordance with Standard Paragraph E at the end of this notice.

6. Allegheny Energy Service Corporation on Behalf of Allegheny Energy Supply, Lincoln Generating Facility, LLC

[Docket No. ER01-2060-000]

Take notice that on May 17, 2001, Allegheny Energy Service Corporation on behalf of Allegheny Energy Supply Lincoln Generating Facility, LLC tendered for filing Service Agreement No. 1 to add one (1) new Customer to the Market Rate Tariff under which Allegheny Energy Supply Lincoln Generating Facility, LLC offers generation services. Allegheny Energy Supply Lincoln Generating Facility, LLC requests a waiver of notice requirements to make service available as of May 4, 2001 to Allegheny Energy Supply Company, LLC.

Copies of the filing have been provided to the Public Utilities Commission of Ohio, the Pennsylvania Public Utility Commission, the Maryland Public Service Commission, the Virginia State Corporation Commission, the West Virginia Public Service Commission, and all parties of record.

Comment date: June 7, 2001, in accordance with Standard Paragraph E at the end of this notice.

7. Allegheny Energy Service Corporation on Behalf of Allegheny Energy Supply, Wheatland Generating Facility, LLC

[Docket No. ER01-2061-000]

Take notice that on May 17, 2001, Allegheny Energy Service Corporation on behalf of Allegheny Energy Supply Wheatland Generating Facility, LLC tendered for filing Service Agreement No. 1 to add one (1) new Customer to the Market Rate Tariff under which Allegheny Energy Supply Wheatland Generating Facility, LLC offers generation services. Allegheny Energy Supply Wheatland Generating Facility, LLC requests a waiver of notice requirements to make service available as of May 4, 2001 to Allegheny Energy Supply Company, LLC.

Copies of the filing have been provided to the Public Utilities Commission of Ohio, the Pennsylvania Public Utility Commission, the Maryland Public Service Commission, the Virginia State Corporation Commission, the West Virginia Public Service Commission, and all parties of record.

Comment date: June 7, 2001, in accordance with Standard Paragraph E at the end of this notice.

8. Western Resources, Inc., Kansas Gas and Electric Company

[Docket No. ER01-2062-000]

Take notice that on May 17, 2001, Western Resources, Inc. (WR) tendered for filing revised pages 34-42 (Exhibits B, C and D) to its Electric Power, Transmission, and Service Contract with Kansas Electric Power Cooperative Inc. (KEPCo). WR, on behalf of its wholly owned subsidiary the Kansas Gas and Electric Company (KGE), also submitted revised page 31-36 (Exhibits B and C) to KGE's Electric Power, Transmission, and Service Contract with KEPCo.

These revisions are part of WR's annual exhibits filed with the Federal Energy Regulatory Commission. In addition, WR is filing for acceptance the addition of a new interconnect point near Oskaloosa, Kansas. The revised pages and the filing of the interconnect point are proposed to be effective June 1, 2001.

Copies of the filing were served upon KEPCo and the Kansas Corporation Commission.

Comment date: June 7, 2001, in accordance with Standard Paragraph E at the end of this notice.

9. Allegheny Energy Service Corporation on Behalf of Allegheny Energy Supply, Gleason Generating Facility, LLC

[Docket No. ER01-2063-000]

Take notice that on May 17, 2001, Allegheny Energy Service Corporation on behalf of Allegheny Energy Supply Gleason Generating Facility, LLC tendered for filing Service Agreement No. 1 to add one (1) new Customer to the Market Rate Tariff under which Allegheny Energy Supply Gleason Generating Facility, LLC offers generation services. Allegheny Energy Supply Gleason Generating Facility, LLC requests a waiver of notice requirements to make service available as of May 4, 2001 to Allegheny Energy Supply Company, LLC.

Copies of the filing have been provided to the Public Utilities Commission of Ohio, the Pennsylvania Public Utility Commission, the Maryland Public Service Commission, the Virginia State Corporation Commission, the West Virginia Public Service Commission, and all parties of record.

Comment date: June 7, 2001, in accordance with Standard Paragraph E at the end of this notice.

10. The Dayton Power and Light Company

[Docket No. ER01-2064-000]

Take notice that on May 17, 2001, The Dayton Power and Light Company (Dayton) tendered for filing a service agreement establishing Detroit Edison and Dynegy Power Marketing as a customer under the terms of Dayton's FERC Electric Tariff, Original Volume No. 10.

Dayton requests an effective date of one day subsequent to this filing for the service agreements. Accordingly, Dayton requests waiver of the Commission's notice requirements. Copies of this filing were served upon Detroit Edison, Dynegy Power Marketing and the Public Utilities Commission of Ohio.

Comment date: June 7, 2001, in accordance with Standard Paragraph E at the end of this notice.

11. Arizona Public Service Company

[Docket No. ER01-2065-000]

Take notice that on May 17, 2001, Arizona Public Service Company (APS) tendered for filing an Interconnection and Operating Agreement with Pinnacle West Energy for West Phoenix 4 under APS' Open Access Transmission Tariff.

A copy of this filing has been served on Pinnacle West Energy and the Arizona Corporation Commission.

Comment date: June 7, 2001, in accordance with Standard Paragraph E at the end of this notice.

12. Allegheny Energy Supply Lincoln Generating Facility, LLC, Allegheny Energy Supply Gleason Generating Facility, LLC, and Allegheny Energy Supply Wheatland Generating Facility, LLC

[Docket Nos. ER01-2066-000, ER01-2067-000 and ER01-2068-000]

Take notice that on May 16, 2001, Allegheny Energy Service Corporation on behalf of Allegheny Energy Supply Lincoln Generating Facility, LLC, Allegheny Energy Supply Gleason Generating Facility, LLC, and Allegheny Energy Supply Wheatland Generating Facility, LLC tendered for filing Notices of Succession to adopt, ratify and make their own, in every respect, all applicable rate schedules and supplements thereto previously filed with the Federal Energy Regulatory Commission by Des Plaines Green land Development L.L.C., Gleason Power I L.L.C., and West Fork Land Development Company, L.L.C., respectively, effective May 4, 2001.

Copies of the filing have been provided to the Public Utilities Commission of Ohio, the Pennsylvania Public Utility Commission, the Maryland Public Service Commission, the Virginia State Corporation Commission, the West Virginia Public Service Commission, and all parties of record.

Comment Date: June 6, 2001, in accordance with Standard Paragraph E at the end of this notice.

13. Pennsylvania Electric Company

[Docket No. ER01-2069-000]

Take notice that on May 17, 2001, Pennsylvania Electric Company (Penelec) (doing business as GPU Energy) tendered for filing a Notice of Cancellation of Pennsylvania Electric Company, FERC Electric Tariff No. 1. Penelec requests that cancellation be effective the 1st day of June, 2001.

Comment date: June 7, 2001, in accordance with Standard Paragraph E at the end of this notice.

14. Metropolitan Edison Company

[Docket No. ER01-2070-000]

Take notice that on May 17, 2001, Metropolitan Edison Company (Met-Ed) (doing business as GPU Energy) tendered for filing a Notice of Cancellation of Metropolitan Edison Company, FERC Electric Tariff No. 2. Met-Ed requests that cancellation be effective the 18th day of May, 2001.

Comment date: June 7, 2001, in accordance with Standard Paragraph E at the end of this notice.

15. Desert Power, L.P.

[Docket No. ER01-2071-000]

Take notice that on May 17, 2001, Desert Power, L.P. tendered for filing, pursuant to Section 205 of the Federal Power Act, and Part 35 of the Commission's regulations, a petition for authorization to make sales of capacity, energy, and certain Ancillary Services at market-based rates, to reassign transmission capacity, and to resell Firm Transmission Rights.

Comment date: June 7, 2001, in accordance with Standard Paragraph E at the end of this notice.

16. Pennsylvania Electric Company

[Docket No. ER01-2072-000]

Take notice that on May 17, 2001, Pennsylvania Electric Company (Penelec) (doing business as GPU Energy) tendered for filing a Notice of Cancellation of Service Agreement No. 8 under FERC Electric Tariff Volume No. 1 between Pennsylvania Electric Company and West Penn Power Company. Penelec requests that cancellation be effective the 1st day of June, 2001.

Comment date: June 7, 2001, in accordance with Standard Paragraph E at the end of this notice.

17. Jersey Central Power & Light Company

[Docket No. ER01-2073-000]

Take notice that on May 17, 2001, Jersey Central Power & Light Company (Jersey Central) (doing business as GPU Energy) tendered for filing a Notice of Cancellation of Jersey Central Power & Light Company, FERC Electric Tariff No. 1. Jersey Central requests that cancellation be effective the 18th day of May, 2001.

Comment date: June 7, 2001, in accordance with Standard Paragraph E at the end of this notice.

18. Calhoun Power Company I, LLC

[Docket No. ER01-2074-000]

Take notice that on May 17, 2001, Calhoun Power Company I, LLC (Calhoun), tendered for filing an application for authorization to sell capacity, energy and ancillary services at market-based rates pursuant to Section 205 of the Federal Power Act.

Calhoun also requests that the Commission accept for filing a long-term purchase contract for the sale of energy and capacity from Calhoun to Alabama Power Company as a service agreement under Calhoun's proposed market-based rate tariff.

Comment date: June 7, 2001, in accordance with Standard Paragraph E at the end of this notice.

19. Idaho Power Company

[Docket No. ER01-2075-000]

Take notice that on May 17, 2001, Idaho Power Company (IPC) tendered for filing with the Federal Energy Regulatory Commission a Service Agreement under Idaho Power Company's FERC Electric Tariff No. 6, Market Rate Power Sales Tariff, between Idaho Power Company and Overton Power District.

Comment date: June 7, 2001, in accordance with Standard Paragraph E at the end of this notice.

20. Delmarva Power & Light Company

[Docket No. ER01-2077-000]

Take notice that on May 17, 2001, Delmarva Power & Light Company (Delmarva) tendered for filing an Interconnection Agreement between Delmarva and NRG Energy Center Dover, LLC (NRG Energy). The Interconnection Agreement provides for the interconnection of an electric generating facility owned by NRG Energy with Delmarva's transmission facilities. Delmarva and NRG Energy jointly request a May 18, 2001 effective date.

Copies of the filing were served upon the Delaware Public Service Commission, the Maryland Public Service Commission and the Virginia State Corporation Commission.

Comment date: June 7, 2001, in accordance with Standard Paragraph E at the end of this notice.

21. Potomac Electric Power Company Conectiv

[Docket No. EC01-101-000]

Take notice that on May 14, 2001, Potomac Electric Power Company (PEPCO), on its own behalf and on behalf of its jurisdictional subsidiaries, and Conectiv, on behalf of its jurisdictional subsidiaries, filed with the Federal Energy Regulatory Commission (Commission) an application pursuant to Section 203 of the Federal Power Act for authorization of a merger of jurisdictional facilities to be accomplished, as individual Conectiv shareholders may elect, by a payment of $25.00 for each share of Conectiv common stock and $21.69 for each share of Conectiv Class A common stock or by the exchange of Conectiv stock for common stock, in amounts to be determined by exchange ratios applicable to the two categories of Conectiv common stock, in New RC Inc., a new holding company which will become the parent of PEPCO and Conectiv.

Copies of the merger application have been served upon the regulatory commissions of Delaware, the District of Columbia, Maryland, New Jersey, Pennsylvania and Virginia, the Applicants' wholesale requirements and interconnection customers, and the PJM-ISO.

Comment date: July 16, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-13480 Filed 5-29-01; 8:45 am]

BILLING CODE 6717-01-P